DEPARTMENT OF ENERGY

Federal Energy Regulatory Commission

[Docket Nos. RP97-346-027]

Equitrans, L.P.; Notice of Proposed Changes in FERC Gas Tariff

July 19, 2000.

Take notice that on July 14, 2000, Equitrans, L.P. (Equitrans) tendered for filing as part of its FERC Gas Tariff, Original Volume No. 1, the following revised tariff sheets to become effective August 1, 2000.

Third Revised Sheet No. 5

Fourth Revised Sheet No. 6

Second Revised Sheet No. 9

Second Revised Sheet No. 10

Third Revised Sheet No. 11

Equitrans states that the purpose of this filing is to place into effect new base rates and retainage levels for the period of August 1, 2000 until the termination of the settlement in compliance with the Commission's April 29, 1999 Letter Order approving the uncontested January 22, 1999 Stipulation and Agreement.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-18616 Filed 7-21-00; 8:45 am]

BILLING CODE 6717-01-M